DEPARTMENT OF HOMELAND SECURITY

Federal Emergency Management Agency

44 CFR Part 67

[Docket ID FEMA-2008-0020; Internal Agency Docket No. FEMA-B-1072]

Proposed Flood Elevation Determinations

Correction

In proposed rule document E9-21472 beginning on page 46074 in the issue of Tuesday, September 8, 2009, make the following correction:

§67.4 [Corrected]

On page 46075, in §67.4, the table is reprinted to read as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Napa County, California, and Incorporated Areas
Napa Creek | At the confluence with Napa River | +22 | +18 | City of Napa.
| Approximately 100 feet upstream of Jefferson Street | +35 | +34
Napa River (With Levee) | Approximately 715 feet west of intersection of State Route 121 and East Avenue | +28 | +27 | City of Napa, Unincorporated Areas of Napa County.
| Approximately 1,530 feet southwest of intersection of State Route 121 and Woodland Drive | +32 | +29
Napa River (Without Levee) | Approximately 0.5 mile downstream of Imola Avenue | +13 | +12 | City of Napa, Unincorporated Areas of Napa County.
| Approximately 1,230 feet downstream of confluence of Soda Creek | +47 | +46
Napa River Oxbow Overflow | At the confluence with Tulucay Creek | +18 | +16 | City of Napa, Unincorporated Areas of Napa County.
| Approximately 0.39 mile upstream of Soscol Avenue | +22 | +19
Ponding Areas with elevations determined (AH Zones) | Extensive ponding areas, in roadways south of Salvador creek (lowest elevation) | None | +39 | City of Napa, Unincorporated Areas of Napa County.
| Extensive ponding areas, in roadways south of Salvador creek (highest elevation) | None | +76
Salvador Creek | At the confluence with Napa River | +33 | +31 | City of Napa, Unincorporated Areas of Napa County.
| Approximately 100 feet upstream of State Highway 29 | None | +75
Salvador Creek North Branch | At the confluence with Salvador Creek | None | +75 | City of Napa, Unincorporated Areas of Napa County.
| Approximately 0.8 mile upstream of confluence with Salvador Creek | None | +93
Salvador Creek South Branch | At the confluence with Salvador Creek | None | +75 | City of Napa.
| Approximately 1,365 feet upstream of Salvador Creek | None | +76
Shallow Flooding (AO Zone) | Shallow flooding area, approximately 425 feet northeast of intersection of Imola Avenue and Gasser Drive | +15 | #1 | City of Napa.
| Shallow flooding area, approximately 1,400 feet northeast of intersection of Imola Avenue and Gasser Drive | +17 | #2
Tulucay Creek | At the confluence with Napa River | +18 | +15 | City of Napa.
| Approximately 560 feet upstream of Shurtleff Avenue | +37 | +38 | Unincorporated Areas of Napa County.
* National Geodetic Vertical Datum.
+ North American Certical Datum.
# Depth in feet above ground.
‸ Mean Sea Level, rounded to the nearest 0.1 meter.
**BEFs to be changed include the listed downstream and upstream BFEs, and include BFEs located on the stream reach between the referenced locations above. Please refer to the revised Flood Insurance Rate Map located at the community map repository (see below) for exact locations of all BFEs to be changed.
Send comments comments to Kevin C. Long, Acting Chief, Engineering Management Branch, Mitigation Directorate, Federal Emergency Management Agency, 500 C Street, SW., Washington, DC 20472.
ADDRESSES
City of Napa
Maps are Available for inspection at the City of Napa Public Works Department, 1600 1st Street, Napa, CA 94559.
Unincorporated Areas of Napa County
Maps are available for inspection at the Napa County Public Works Department, 1195 3rd Street, Suite 201, Napa, CA 94559.

[FR Doc. C1-2009-21472 Filed 1-22-10; 8:45 am]

BILLING CODE 1505-01-D